DEPARTMENT OF THE INTERIOR

Bureau of Safety and Environmental Enforcement

[Docket ID BOEM-2011-0087]

Notice of Industry Workshop on Technical and Regulatory Challenges in Deep and Ultra-Deep Outer Continental Shelf Waters

AGENCY: Bureau of Safety and Environmental Enforcement (BSEE), Interior.

ACTION: Announcement of Industry Workshop.

SUMMARY: BSEE is announcing the Effects of Water Depth Workshop. This workshop with industry will offer a blend of technical presentations and interactive peer review discussions expected to help identify Outer Continental Shelf (OCS) challenges and technologies associated with oil and gas exploration and production at various water depths. This workshop will also identify approaches to address the water depth issue through regulations, standards, and practices designed to safeguard personnel, operations, and the environment.

DATES: The workshop will be held on November 2 and 3, 2011, between 8 a.m. and 5 p.m. Early sign-in begins November 1, 2011, at 5:30 p.m.

ADDRESSES: The workshop will be held at the San Luis Hotel, 5222 Seawall Blvd., Galveston, Texas 77551. Lodging at the San Luis Hotel is available for Workshop participants.

FOR FURTHER INFORMATION CONTACT: Mr. Michael Else, Technology Assessment and Research Program, (703) 787-1769 or by e-mail: Michael.else@bsee.gov or Mr. Joseph Braun at (630) 252-5574 or by e-mail: joebraun@anl.gov.

SUPPLEMENTARY INFORMATION: The primary intent of this workshop is to support BSEE's goal of ensuring safe and environmentally sound offshore oil and gas exploration and production in deep and ultra-deep OCS waters. Through this workshop, BSEE will obtain feedback and analysis from stakeholders related to drilling, production technologies, operations, spill prevention, emergency response, and cleanup. In addition, the two-day workshop will offer a structured venue for consultation among offshore deepwater oil and gas industry and regulatory experts in order to:

(a) Identify the effects of water depth and related issues on equipment and operations; and

(b) Identify approaches to address the water depth issue through regulations, standards, and practices designed to safeguard personnel, operations and the environment.

This workshop will assist in improving existing regulations and develop new regulations under the authority of the BSEE, which assumed regulatory responsibility for safety and environmental protection over OCS oil and gas operations effective October 1, 2011. The workshop will also provide an opportunity to identify approaches industry can use to address water depth issues, such as the development of new standards or improvements in existing standards. Domestic energy reserves are vitally important to the Nation's economic strength. BSEE is committed to helping ensure environmental protection and human safeguards during exploration and development of these energy reserves. This workshop is a critical step in clearing a path forward for responsible deep water development.

Registration: Registration fees will be approximately $425.00 per person to cover food, refreshments, and administrative costs. Attendance at this workshop is by invitation only. To apply, please visit BSEE's workshop webpage at http://www.boemre.gov/tarworkshops/EWD/Apply.htm. You will be redirected to the U.S. Department of Energy, Argonne National Lab's webpage to complete your application electronically and will be contacted by Argonne National Lab staff, who have been contracted to provide workshop registration services.

Paperwork Reduction Act of 1995 Statement

This Federal Register Notice does not refer to or impose any information collection subject to the Paperwork Reduction Act (44 U.S.C. 3501 et seq.).

Dated: October 17, 2011.
Robert P. LaBelle,
Acting Deputy Director, Bureau of Safety and Environmental Enforcement.

[FR Doc. 2011-27633 Filed 10-21-11; 8:45 am]

BILLING CODE 4310-MR-P